DEPARTMENT OF HEALTH AND HUMAN SERVICES

Centers for Disease Control and Prevention

National Vaccine Advisory Committee, Subcommittee on Future Vaccines, Subcommittee on Immunization Coverage, and Subcommittee on Vaccine Safety and Communication Meetings

In accordance with section 10(a)(2) of the Federal Advisory Committee Act (Pub. L. 92-463), the Centers for Disease Control and Prevention (CDC) announces the following Federal advisory committee meetings.

Name: National Vaccine Advisory Committee (NVAC).

Times and Dates: 9 a.m.-3 p.m., October 8, 2002. 8:30 a.m.-3 p.m., October 9, 2002.

Place: Hubert H. Humphrey Building, Room 705A, 200 Independence Avenue, SW., Washington, DC 20201.

Status: Open to the public, limited only by the space available.

Notice: In the interest of security, the Department has instituted stringent procedures for entrance to the Hubert H. Humphrey Building by non-government employees. Thus, persons without a government identification card should plan to arrive at the building each day either between 8 a.m. and 8:30 a.m. or 12:30 p.m. and 1 p.m. Entrance to the meeting at other times during the day cannot be assured.

Purpose: This committee advises and makes recommendations to the Director of the National Vaccine Program on matters related to the Program responsibilities.

Matters To Be Discussed: Agenda items will include: A report from the National Vaccine Program Office (NVPO) and the Interagency Vaccine Workgroup; a report from the Assistant Secretary for Health; discussion on a proposal for a workshop on traveler's vaccines; an update on the Influenza Pandemic Preparedness Plan; an update on vaccine supply; a discussion of compensation for vaccine administration: Center for Medicare and Medical Services Ruling; a discussion of international vaccine development and introduction; an update on immunization registries; a discussion of racial and ethnic disparities in adult immunization rates; Polio Laboratory Containment and ramifications of recent synthesis of poliovirus; Vaccine Safety and Communication Subcommittee report; Immunization Coverage Subcommittee report, Future Vaccines Subcommittee report; Increasing Public Participation in Dialogue and Deliberation About Vaccines—Report from Wingspread; discussions on Smallpox Vaccine Development and DHHS Smallpox Vaccine Policy; Institute of Medicine (IOM) Report—Vaccine Financing, also an update on the IOM Safety Review Committee; reports from Advisory Committee Immunization Practices/NVAC Smallpox Working Group—Update, Advisory Commission on Childhood Vaccines/Division of Vaccine Injury Compensation, Vaccine Related Biological Products Advisory Committee/Food and Drug Administration, Advisory Committee on Immunization Practices/National Immunization Program/National Center for Infectious Diseases.

Name: Subcommittee on Future Vaccines.

Time and Date: 3:15 p.m.-5 p.m., October 8, 2002.

Place: Hubert H. Humphrey Building, Room 405A, 200 Independence Avenue, SW., Washington, DC 20201.

Status: Open to the public, limited only by the space available.

Purpose: This subcommittee develops policy options and guides national activities that lead to accelerated development, licensure, and the best use of new vaccines in the simplest possible immunization schedules.

Matters To Be Discussed: Agenda items will be; a discussion on Planning for a meeting on Pneumococcal Vaccinations for Adults; a report on the CMV meeting; a discussion of potential future topics, Cell-culture based influenza vaccine, Implications of vectored vaccines.

Name: Subcommittee on Immunization Coverage.

Time and Date: 3:15 p.m.-5 p.m., October 8, 2002.

Place: Hubert H. Humphrey Building, Room 705A, 200 Independence Avenue, SW., Washington, DC 20201.

Status: Open to the public, limited only by the space available.

Purpose: This subcommittee will identify and propose solutions that provide a multifaceted and holistic approach to reducing barriers that result in low immunization coverage for children.

Matters To Be Discussed: Agenda items will include discussions on the updates on Publication of Adult and Pediatric Standards; IOM Study on Financing Vaccines; Influenza Immunization Study/READII; Registry for missed immunizations; Areas of Unmet Needs.

Name: Subcommittee on Vaccine Safety and Communication.

Time and Date: 3:15 p.m.-5 p.m. October 8, 2002.

Place: Hubert H. Humphrey Building, Room 425A, 200 Independence Avenue, SW., Washington, DC 20201.

Status: Open to the public, limited only by the space available.

Purpose: This subcommittee reviews issues relevant to vaccine safety and adverse reactions to vaccines.

Matters To Be Discussed: Influenza communications programs; a progress report from the IOM Vaccine Safety Review; and a progress report about changes in the Vaccine Injury Compensation Program; a report about Thimerosal class action suits.

Agenda items are subject to change as priorities dictate.

Contact Person for More Information: Gloria Sagar, Committee Management Specialist, NVPO, CDC, 4700 Buford Highway M/S K-77, Chamblee, Georgia 30341, telephone 770/488-2040.

The Director, Management Analysis and Services Office, has been delegated the authority to sign Federal Register notices pertaining to announcements of meetings and other committee management activities for both the Centers for Disease Control and Prevention and the Agency for Toxic Substances and Disease Registry.

Dated: September 6, 2002.
John Burckhardt,
Acting Director, Management Analysis and Services Office, Centers for Disease Control and Prevention.

[FR Doc. 02-23152 Filed 9-11-02; 8:45 am]

BILLING CODE 4163-18-M